DEPARTMENT OF COMMERCE

National Institute of Standards and Technology

[Docket Number: 140305199-4619-02]

Notice of Termination of Selected National Voluntary Conformity Assessment Systems Evaluation Program Services

AGENCY: National Institute of Standards and Technology (NIST), Commerce.

ACTION: Notice; Termination of Selected NVCASE Program Services.

SUMMARY: The National Institute of Standards and Technology (NIST) announces the termination of the Organic Production and Processing sub-program offered by NIST's National Voluntary Conformity Assessment Systems Evaluation (NVCASE) program, effective January 1, 2016. NIST takes this action because there are now suitable alternative paths to foreign market access, and there would be no significant public disadvantage to terminating the Organic Production and Processing sub-program.

DATES: Effective January 1, 2016, the NVCASE sub-program on Organic Production and Processing will be terminated.

ADDRESSES: Questions or comments regarding NVCASE should be directed to the NVCASE Program Manager, National Voluntary Conformity Assessment Systems Evaluation Program, National Institute of Standards and Technology, 100 Bureau Drive, Stop 2100, Gaithersburg, MD 20899-2100, or by email to ramona.saar@nist.gov.

FOR FURTHER INFORMATION CONTACT: Ramona Saar, National Institute of Standards and Technology, 100 Bureau Drive, Stop 2100, Gaithersburg, MD 20899-2100, email to ramona.saar@nist.gov, or phone 301-975-5521.

SUPPLEMENTARY INFORMATION: The National Institute of Standards and Technology (NIST) administers the National Voluntary Conformity Assessment Systems Evaluation (NVCASE) program under regulations found in Part 286 of Title 15 of the Code of Federal Regulations.

Under the NVCASE program NIST evaluates U.S.-based conformity assessment bodies in order to be able to provide assurances to a foreign government that qualifying bodies meet that government's requirements and can provide results that are acceptable to that government. The program is intended to provide a technically-based U.S. approval process for U.S. industry to gain foreign market access.

On December 6, 2002, NIST received a request from a U.S. accreditation body to establish a sub-program, under the NVCASE program, for Organic Production and Processing. The stated objectives of the request were to provide confidence in the quality of this accreditation body's work, and to provide assurance that this accreditation body complied with the requirements of some foreign governments, thus facilitating the export of U.S. products.

NIST, having determined that there was no satisfactory recognition alternative available and that there was evidence that significant public disadvantage would result from the absence of any alternative, established the NVCASE sub-program for Organic Production and Processing on November 4, 2003, following a public workshop held on May 9, 2003. A notice was published in the Federal Register on November 4, 2003, announcing the establishment of the program (68 FR 62434).

In the decade since the establishment of the sub-program, the United States has made numerous trade arrangements to facilitate the international trade of organic products. The resulting changes in the international requirements have increased international market access for U.S. producers. NIST considers that there are now suitable alternative paths to foreign market access, and that there would be no significant public disadvantage to terminating the Organic Production and Processing sub-program.

In a Federal Register notice published on April 15, 2014 (79 FR 21210), NIST requested written comments on the intended termination of the Organic Production and Processing sub-program offered by NVCASE, and announced a 30-day comment period for that purpose. No comments were received.

Accordingly, the NIST NVCASE program announces that it will cease to grant or renew recognition under the Organic Production and Processing sub-program, effective January 1, 2016. Conformity assessment bodies currently recognized under the sub-program will remain recognized until January 1, 2016, provided they continue to meet program requirements.

Dated: August 29, 2014.
Willie E. May,
Associate Director of Laboratory Programs.

[FR Doc. 2014-21412 Filed 9-8-14; 8:45 am]

BILLING CODE 3510-13-P